DEPARTMENT OF ENERGY

Federal Energy Regulatory Commission

[Docket No. CP11-128-000]

National Fuel Gas Supply Corporation; Notice of Public Scoping Meeting for the Proposed Northern Access Project

On June 6, 2011, the Office of Energy Projects staff will hold a public scoping meeting to obtain input related to the environmental analysis of National Fuel Gas Supply Corporation's (National Fuel) Northern Access Project. We scheduled this meeting to provide landowners an opportunity to voice comments on the proposed project, and in response to the requests received during the April 11, 2011 environmental site review of the proposed East Aurora Compressor Station site and subsequent requests filed with the Commission. The environmental site review was noticed in our March 29, 2011, Notice of Intent to Prepare an Environmental Assessment for the Proposed Northern Access Project and Station 230C Project, Request for Comments on Environmental Issues, and Notice of Public Environmental Site Review (NOI).

The public scoping meeting is scheduled as follows:

Northern Access Project Scoping Meeting

June 6, 2011, at 7 p.m., Parkdale Elementary School, 141 Girard Avenue, East Aurora, NY 14052.

This notice is being sent to the Commission's current environmental mailing list for this project. The NOI and additional information about the project is available from the Commission's Office of External Affairs, at (866) 208-FERC, or on the FERC Web site at http://www.ferc.gov using the “eLibrary” link. Click on the eLibrary link, click on “General Search” and enter the docket number, excluding the last three digits in the Docket Number field (i.e., CP11-128). Be sure you have selected an appropriate date range. For assistance, please contact FERC Online Support at FercOnlineSupport@ferc.gov or toll free at (866) 208-3676, or for TTY, contact (202) 502-8659.

Dated: May 19, 2011.
Kimberly D. Bose,
Secretary.

[FR Doc. 2011-12892 Filed 5-24-11; 8:45 am]

BILLING CODE 6717-01-P